DEPARTMENT OF THE INTERIOR

Fish and Wildlife Service

[FWS-R4-ES-2011-N032; 40130-8081-0000-5B]

Merritt Island National Wildlife Refuge, Volusia and Brevard Counties, FL; Collection of Entrance Fees

AGENCY: Fish and Wildlife Service, Interior.

ACTION: Notice of intent.

SUMMARY: We, the U.S. Fish and Wildlife Service (Service), announce our intent to modify the existing fee collection program at Merritt Island National Wildlife Refuge by adding entrance fees. The proposed entrance fees are $1.00 a day for one person, $5.00 a day for one vehicle, and $15.00 a year for one person. Under the Federal Lands Recreation Enhancement Act (REA), we will identify and post specific visitor fees and begin collecting them. The proposed fees only affect Black Point Wildlife Drive and three improved refuge boat ramps (Bairs Cove, Beacon 42, and Bio Lab). Fees are not required to enter any other portion of the refuge.

DATES: Submit your comments on this action by August 1, 2011. Unless we publish a notice in the Federal Register withdrawing this action, we will begin collecting entrance fees on September 1, 2011.

ADDRESSES: Submit your comments by one of the following methods:

• U.S. mail or hand-delivery: Merritt Island National Wildlife Refuge (Attention: Dorn Whitmore), P.O. Box 2683, Titusville, FL 32781;

• Fax: 321-861-1276, attn: “Merritt Island Fee”; or

• E-mail: Dorn_Whitemore@fws.gov.

FOR FURTHER INFORMATION CONTACT: Dorn Whitmore, 321-861-2384.

SUPPLEMENTARY INFORMATION: In an effort to meet increasing demands for services, and to maintain developed facilities, we announce our intent to add a new class of fees to the existing fee program at Merritt Island National Wildlife Refuge (Refuge) under section 3(e) of the REA (16 U.S.C. 6801-6814). The Refuge will add the following type of entrance fees.

Merritt Island National Wildlife Refuge Visitors Entrance Fees

1. Free—Youth Ages 15 and Under.

2. $1.00—Daily Individual Entrance Fee (fee is per person/per day, when arriving on foot, bicycle, as part of a tour group, or on a bus).

3. $5.00—Daily Noncommercial Vehicle Entrance Fee (fee is per single, private noncommercial vehicle).

4. $5.00—Family Group Entrance Fee (fee is the maximum per day, per family, when arriving on foot, bicycle, as part of a tour group, or on a bus). A family group is defined as up to four adults (16 years and older) and any number of children (15 years and under).

5. $15.00—Annual Merritt Island National Wildlife Refuge Pass (per single private noncommercial vehicle) valid for 1 year.

Special Provisions and Exceptions to the Entrance Fee Structure

National Public Lands Day (NPLD) is a “fee-free” day for all visitors to the Refuge. The National Environmental Education Foundation determines the date of NPLD. The Refuge may establish other “fee-free” days in conjunction with special events such as Veterans Day and National Wildlife Refuge Week. The Refuge will not collect entrance fees from volunteers who are actively working on or for the Refuge during their scheduled duty times. Volunteers who contribute and record 80 hours of volunteer service or more during a fiscal year will receive an Annual Refuge Pass at no charge. The Refuge will waive entrance fees for school groups.

Passes in Lieu of Entrance Fees

The Refuge participates in two pass programs, the Federal Duck Stamp and the America the Beautiful National Parks and Federal Recreational Lands Pass programs. The Refuge honors and offers for purchase passes associated with these programs. Information on the programs is available at http://www.fws.gov/duckstamps/ and http://www.fws.gov/refuges/visitors/passes.html.

The Refuge will also honor Golden Eagle, Golden Age, and Golden Access passes. A list of passes the Refuge will honor and/or sell follows. If your pass is not listed, we encourage you to contact the Refuge and inquire about pass acceptance prior to your visit.

1. Federal Duck Stamp (valid for 1 year beginning July 1: $15.00 annually.

2. America the Beautiful National Parks and Federal Recreational Lands.

Annual Pass: $80.00 annually.

Senior Pass (lifetime pass for those who qualify): One time fee of $10.00.

Access Pass (lifetime pass for those who qualify): Free.

3. Golden Eagle, Golden Age, and Golden Access Pass: The Refuge will honor these passes according to the provisions of each, but not available for purchase.

4. Annual Merritt Island National Wildlife Refuge Pass: $15.00 annually.

5. Annual Canaveral National Seashore Pass.

Daily Pass: $5.00 daily.

Annual Pass: $35.00 annually.

Entrance Fees Support Refuge Visitor Facilities

The Refuge plans to use additional collected fees to repair and maintain the following visitor facilities: Boat ramps at Bairs Cove, Beacon 42, and Bio Lab; Black Point Wildlife Drive; public access roads; parking lots; overlooks; and interpretive signs. Under the REA, in order to change fees, the site must have the staff and resources to manage a fee activity as well as to collect the deposit money. Under the National Wildlife Refuge System Improvement Act, we must allow only activities that are appropriate and compatible with the specific Refuge's purposes.

Authorities and Requirements of the REA

In December 2004, the REA became law. The REA provides authority through December 2014 for the Secretaries of the Departments of the Interior and Agriculture to establish, modify, charge, and collect recreation fees for use of some Federal recreation lands and waters, and contains specific provisions addressing public involvement in the establishment of recreation fees. The REA also directs the Secretaries of the Departments of the Interior and Agriculture to publish advance notice in the Federal Register whenever bureaus establish new recreation fee areas under their respective jurisdictions.

In accordance with our recreating fee program guidance, we are offering the public advance notice of our intent to collect entrance fees and an opportunity to comment on this fee collection before it goes into effect. The fees will be collected on the Refuge at Black Point Wildlife Drive and at the boat ramps at Bairs Cove, Beacon 42, and Bio Lab. If public comments were to provide substantive reasons why we should not collect entrance fees on the Refuge, we would reevaluate our plan and publish a subsequent notice in the Federal Register withdrawing this action. Otherwise, fee collection at Merritt Island National Wildlife Refuge—at Black Point Wildlife Drive, and at the Bairs Cove, Beacon 42, and Bio Lab boat ramps—will begin September 1, 2011, with fee types and amounts posted on site.

Public Availability of Comments

Before including your address, phone number, e-mail address, or other personal identifying information in your comment, you should be aware that your entire comment—including your personal identifying information—may be made publicly available at any time. While you can ask us in your comment to withhold your personal identifying information from public review, we cannot guarantee that we will be able to do so.

Authority: 16 U.S.C. 6803(b).

Dated: February 22, 2011.
Mark J. Musaus,
Deputy Regional Director, Southeast Region.

[FR Doc. 2011-7438 Filed 4-1-11; 8:45 am]

BILLING CODE 4310-55-M